DEPARTMENT OF LABOR

Employment and Training Administration

[TA-W-73,234]

Gerber Technology, Richardson, TX; Notice of Termination of Investigation

Pursuant to Section 223 of the Trade Act of 1974, as amended, an investigation was initiated in response to a petition filed on December 15, 2009 by a company official on behalf of workers of Gerber Technology, Richardson, Texas.

The petitioner has requested that the petition is withdrawn. Consequently, the investigation has been terminated.

Signed at Washington, DC, this 4th day of March 2010.
Richard Church,
Certifying Officer, Division of Trade Adjustment Assistance.

[FR Doc. 2010-5339 Filed 3-11-10; 8:45 am]

BILLING CODE 4510-FN-P